DEPARTMENT OF ENERGY

Federal Energy Regulatory Commission

Notice of Application to Amend License and Soliciting Comments, Motions To Intervene, and Protests

May 16, 2006.

Take notice that the following hydroelectric application has been filed with the Commission and is available for public inspection:

a. Type of Application: Amendment of license.

b. Project No.: 710-038.

c. Date Filed: April 27, 2006.

d. Applicant: Wolf River Hydro Limited Partnership.

e. Name of Project: Shawano Hydroelectric Project.

f. Location: The Shawano Project is located on the Wolf River in Shawano County, Wisconsin, and in part within the Menominee Indian Reservation (Menominee Reservation).

g. Filed pursuant to: 18 CFR 4.201.

h. Applicant Contact: Mr. Paul Nolan, Attorney for Wolf River Hydro Limited Partnership, 5515 North 17th Street, Arlington, VA 22205.

i. FERC Contact: Any questions on this notice should be addressed to Diana Shannon (202) 502-8887, or diana.shannon@ferc.gov.

j. Deadline for filing motions to intervene, protests, comments: June 16, 2006.

k. Description of Proposed Action: The licensee proposes to amend its license to include certain provisions in the license regarding a number of environmental issues, such as the establishment of a resource enhancement fund, fisheries enhancement, gaging, upstream and downstream fish passage, and freshwater mussel restoration. These provisions are included as part of a Settlement Agreement to Amend License Terms, included with the application, signed by the licensee, the Menominee Indian Tribe of Wisconsin, and the U.S. Department of the Interior. The Wisconsin Department of Natural Resources also concurs with the proposed license amendments. The licensee states the proposed amendment would resolve pending appeals of the license, currently before the United States Court of Appeals for the District of Columbia Circuit.

l. Locations of Applications: A copy of the application is available for inspection and reproduction at the Commission in the Public Reference Room, located at 888 First Street, NE., Room 2A, Washington DC 20426, or by calling (202) 502-8371. This filing may also be viewed on the Commission's Web site at http://www.ferc.gov using the “eLibrary” link. Enter the docket (project) number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-710-038). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-7887 Filed 5-23-06; 8:45 am]

BILLING CODE 6717-01-P